DEPARTMENT OF LABOR

Bureau of Labor Statistics

Federal Economic Statistics Advisory Committee; Notice of Open Meeting and Agenda

The fourth meeting of the Federal Economic Statistics Advisory Committee will be held on December 14, 2001 in the Postal Square Building, 2 Massachusetts Avenue NE., Washington, DC.

The Federal Economic Statistics Advisory Committee is a technical committee composed of economists, statisticians, and behavioral scientists who are recognized for their attainments and objectivity in their respective fields. Committee members are called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1 and 2 of the Postal Square Building Conference Center. The schedule and agenda for the meeting are as follows:

8:30 a.m. Opening Session

9 a.m. North American Industry Classification System

10:30 p.m. Seasonal Adjustment

1:15 p.m. American Time Use Survey (continuation)

1:45 p.m. Wage Rate Data and Differentials in 790/202

2:15 p.m. American Community Survey

4 p.m. Priorities for future meetings

4:45 p.m. Conclude (approximate time)

The meeting is open to the public. Any questions concerning the meeting should be directed to Margaret Johnson, Federal Economic Research Advisory Committee, on Area Code (202) 691-5600. Individuals with disabilities, who need special accommodations, should contact Ms. Johnson at least two days prior to the meeting date.

Signed at Washington, DC, the 19th day of November 2001.
Lois L. Orr,
Acting Commissioner of Labor Statistics.

[FR Doc. 01-29368 Filed 11-23-01; 8:45 am]

BILLING CODE 4510-24-P